DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of January 29, 2018 through February 23, 2018. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) The sales or production, or both, of such firm, have decreased absolutely;

AND (ii and iii below)

(ii) (I) Imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) The increase in imports described in clause (ii) contributed importantly to such workers' separation or threat of separation and to the decline in the sales or production of such firm; OR

(B) Shift in Production or Services to a Foreign Country Path OR Acquisition of Articles or Services From a Foreign Country Path

(i) (I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) The shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) The workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) The petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) The workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
92,589 | Faurecia Automotive, 3100 Sims Drive | Sterling Heights, MI | January 27, 2016.
92,589A | Faurecia Automotive, 17801 East 14 Mile Road | Fraser, MI | January 27, 2016.
92,589B | Faurecia Automotive, 42555 Merrill Road | Sterling Heights, MI | January 27, 2016.
92,589C | Faurecia Automotive, 17805 Masonic Drive | Fraser, MI | January 27, 2016.
92,589D | Faurecia Automotive, 6100 Sims Drive | Sterling Heights, MI | January 27, 2016.
93,302 | ContiTech USA, Inc., ContiTech, Continental AG | Sun Prairie, WI | November 9, 2016.
93,311 | Temp, Inc | Fairmont, WV | November 15, 2016.
93,329 | Kyklos Bearing International, LLC, American Axle Manufacturing | Sandusky, OH | December 11, 2017.
93,367 | Pacific Crest Transformers, Inc., Personnel Source, Express Employment Professionals | White City, OR | December 5, 2016.
93,374 | Schawk USA Inc., SGK LLC, PeopleReady, Labor Ready | Kalamazoo, MI | December 14, 2016.
93,419 | Dole Berry Company, Dole Fresh Vegetables, Future Harvesters and Packers, etc | Watsonville, CA | January 10, 2017.

The following certifications have been issued. The requirements of Section 222(a)(2)(B) (Shift in Production or Services to a Foreign Country Path or Acquisition of Articles or Services from a Foreign Country Path) of the Trade Act have been met.

TA-W No. | Subject firm | Location | Impact date
92,718 | Adtalem Global Education, DeVry Education Group, Help Desk | Downers Grove, IL | March 10, 2016.
92,718A | Adtalem Global Education, DeVry Education Group, Help Desk | Oak Brook, IL | March 10, 2016.
92,778 | United Technologies Aerospace Systems, Butler America Aerospace, LLC | Chula Vista, CA | March 22, 2016.
92,834 | Pearson | Bloomington, MN | April 20, 2016.
92,834A | Pearson | Boston, MA | April 20, 2016.
92,834B | Pearson | San Antonio, TX | April 20, 2016.
92,925 | Bruker AXS Inc | Madison, WI | May 31, 2016.
92,936 | Stratus Technologies, Inc., Information Technology | Maynard, MA | June 8, 2016.
92,956 | Capgemini America, Inc., Capgemini North America, Capgemini, Cloud Infrastructure Services, etc | Phoenix, AZ | June 16, 2016.
93,021 | Durafiber Technologies | Grover, NC | July 18, 2016.
93,021A | Durafiber Technologies | Salisbury, NC | July 18, 2016.
93,021B | Durafiber Technologies | Huntersville, NC | July 18, 2016.
93,021C | Durafiber Technologies | Winnsboro, SC | July 18, 2016.
93,102 | Sharp Electronics Corporation, Sharp Microelectronics of the Americas, Sharp Corporation, Adecco | Camas, WA | August 17, 2016.
93,252 | Toront-Dominion Bank/TD Holdings II, Inc., Toronto Dominion Bank, Enterprise Business Management Group, etc | New York, NY | October 25, 2016.
93,255 | Capgemini America, Inc., Capgemini North America, Operations Group, Cloud Infrastructure Services | Chicago, IL | October 16, 2016.
93,256 | Enterprise Services LLC (ES), Boulder, CO, Hewlett Packard Enterprise Services, etc | Boulder, CO | October 27, 2016.
93,269 | McAfee, LLC, Corporate Products Business Unit, Intel | Idaho Falls, ID | November 1, 2016.
93,312 | Microsemi Corporation, DPG-PDM, Mid Oregon Personnel and Superior Staffing | Bend, OR | November 15, 2016.
93,316 | Vestas-American Wind Technology, Inc., WTG Engineering & Support VAME, Vestas Wind Systems A/S | Portland, OR | November 17, 2016.
93,326 | Oticon, Inc., Production Department, William Demant Holdings | Somerset, NJ | November 24, 2016.
93,330 | Technicolor Connected Home USA, Technicolor USA, CDI, Thomson Licensing LLC | Indianapolis, IN | November 28, 2016.
93,334 | Flowserve Corporation, Clarks-Summit Parts Manufacturing Center | Clarks Summit, PA | November 27, 2016.
93,338 | Display Products/DBA Data Display Products | El Segundo, CA | November 30, 2016.
93,344 | Hewlett Packard Enterprise, EG AMS Supply Chain Manufacturing, Staff Management, Manpower, Bucher, etc | Houston, TX | December 4, 2016.
93,358 | HSBC Bank Technology and Services, USA (HTSU), HSBC Technology and Services, IT, HSBC North American Holdings, etc | New York, NY | December 8, 2016.
93,369 | Meggitt Aircraft Braking Systems Corporation, Meggitt-USA, Inc | Akron, OH | December 13, 2016.
93,391 | DJO Global LLC, Finance and Accounting, DJO Global Inc., Target CW, Robert Half, etc | Vista, CA | December 27, 2016.
93,397 | Optum Technology, Incident and Fulfillment Group, UnitedHealth Group, Inc | Santa Ana, CA | December 7, 2016.
93,398 | Towers Watson Delaware, Inc., Willis Towers Watson, Aerotek, Fidato Partners, etc | Philadelphia, PA | December 28, 2016.
93,400 | Cooper Crouse-Hinds, LLC, Electrical Products Group, Eaton Corporation, Barpellam | Houston, TX | January 2, 2017.
93,401 | Philips Electronics North America Corp., CT/AMI Division, Randstad Sourceright | Cleveland, OH | January 2, 2017.
93,402 | AllCare Plus Pharmacy, Call Center Operations | Northborough, MA | December 29, 2016.
93,411 | Rovia, LLC, WorldVentures Holdings, Avail, Cornerstone | Plano, TX | January 5, 2017.
93,413 | GE Power (Formerly Alstom Power), General Electric, Action Technology, Aerotek, Fountain Group, etc | Windsor, CT | January 8, 2017.
93,416 | LEDVANCE, LLC, LEDVANCE Holdings, Experis, Manpower | Exeter, NH | January 10, 2017.

The following certifications have been issued. The requirements of Section 222(b) (supplier to a firm whose workers are certified eligible to apply for TAA) of the Trade Act have been met.

TA-W No. | Subject firm | Location | Impact date
93,347 | Kellogg Sales Company, Sumner Sales Office, Keebler Company, Kellogg Company, CPC, Inc | Sumner, WA | December 5, 2016.
93,357 | Kellogg Sales Company, La Palma Distribution Center, Keebler Company, Kellogg Company | La Palma, CA | December 4, 2016.
93,394 | Industrial Sales & Manufacturing, Inc | Erie, PA | December 28, 2016.
93,407 | LEDVANCE LLC, Eastern Distribution Center (EDC), LEDVANCE GMBH, Manpower | Bethlehem, PA | January 5, 2017.

The following certifications have been issued. The requirements of Section 222(e) (firms identified by the International Trade Commission) of the Trade Act have been met.

TA-W No. | Subject firm | Location | Impact date
93,305 | Specialty Tires of America (PA), Inc., Polymer Enterprises, Inc | Indiana, PA | February 28, 2016.
93,342 | Bridgestone Americas Tire Operation, Off Road Tire Plant | Normal, IL | February 28, 2016.
93,426 | AMG Vanadium LLC | Cambridge, OH | May 12, 2016.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
92,728 | Cooper Standard Automotive, Inc | New Lexington, OH.
92,837 | Hubergroup USA, Inc., California Division | Chino, CA.
93,319 | DNOW L.P. | Ponca City, OK.

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
92,791 | Alorica | North Sioux City, SD.
93,088 | BorgWarner, Transmission Systems, BorgWarner, Human Technologies Incorporated | Bellwood, IL.
93,175 | Del Monte Foods, Inc., Sagar Creek Plant, Allegiant Staffing, Inc | Siloam Springs, AR.
93,327 | AG Manufacturing, Inc. | Wetumpka, AL.
93,328 | Altice Media Solutions LLC, Altice USA, Inc | Woodbury, NY.
93,346 | Alstom Signaling, Inc., Alstom Transport Holding US, Kelly Services | West Henrietta, NY.
93,361 | General Motors, Spring Hill Manufacturing, Development Dimensions International, G4S, etc | Spring Hill, TN.
93,377 | Convergys Corporation | Cedar City, UT.
93,379 | Cequel Corp. d/b/a Suddenlink Communications, Altice USA | Parkersburg, WV.

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
92,807 | ITO Industries, Inc | Bristol, WI.
93,320 | SOLON Corporation, Aerotek, PeopleReady | Tucson, AZ.

The following determinations terminating investigations were issued because the worker group on whose behalf the petition was filed is covered under an existing certification.

TA-W No. | Subject firm | Location | Impact date
93,222 | Alcatel-Lucent USA Inc., Nokia of America Corporation, Nokia, Tekmark Global Solutions | Naperville, IL.
93,258 | Gonzalez Group, LLC | Jonesville, MI.
93,331 | Securitas Securities Services USA Inc., Kellogg Seelyville Bakery | Terre Haute, IN.
93,335 | Pacific Gas and Electric Co., Information Technology, Agile 1, Global Power Consulting, Brillio, etc | San Francisco, CA.
93,355 | Philips Medical Systems (Cleveland) Inc., Adecco, APN, Infotree, NextGen, Randstad, Software Specialists, etc | Aurora, IL.
93,385 | Xerox Corporation, Field Commission Specialists, Collectors/Payment Processors | Rochester, NY.
93,392 | Turner Specialty Services, Honeywell Metropolis | Metropolis, IL.

The following determinations terminating investigations were issued because the Department issued a negative determination applicable to the petitioning group of workers. No new information or change in circumstances is evident which would result in a reversal of the Department's previous determination.

TA-W No. | Subject firm | Location | Impact date
93,383 | Ryder Integrated Logistics, General Motors, Spring Hill Manufacturing Plant, Randstad USA | Spring Hill, TN.

I hereby certify that the aforementioned determinations were issued during the period of January 29, 2018 through February 23, 2018. These determinations are available on the Department's website https://www.doleta.gov/tradeact/taa/taa_search_form.cfm under the searchable listing determinations or by calling the Office of Trade Adjustment Assistance toll free at 888-365-6822.

Signed at Washington, DC, this 27th day of February 2018.
Hope D. Kinglock,
Certifying Officer, Office of Trade Adjustment Assistance.

[FR Doc. 2018-07299 Filed 4-9-18; 8:45 am]

BILLING CODE 4510-FN-P